DEPARTMENT OF TRANSPORTATION

Federal Motor Carrier Safety Administration

[Docket No. FMCSA-2020-0203]

Agency Information Collection Activities; Approval of a New Information Collection Request

AGENCY: Federal Motor Carrier Safety Administration (FMCSA), DOT.

ACTION: Notice and request for comments.

SUMMARY: In accordance with the Paperwork Reduction Act of 1995, Federal Motor Carrier Safety Administration (FMCSA) announces its plan to submit the Information Collection Request (ICR) described below to the Office of Management and Budget (OMB) for its review and approval and invites public comment. This notice invites comment on a proposed information collection project titled Trucking Fleet Concept of Operations (CONOPS) for Managing Mixed Fleets. It is a survey study that will assess the self-reports of approximately 2,000 survey respondents, including commercial motor vehicle (CMV) fleet managers, CMV sales personnel, State and Federal government personnel, industry engineers, researchers, and CMV drivers. The questionnaire is designed to collect baseline opinions of automated driving systems (ADS) before and after hands-on demonstrations with ADS technologies.

DATES: Please send your comments by May 24, 2021. OMB must receive your comments by this date in order to act quickly on the ICR.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Thomas Kelly, Technology Division, Department of Transportation, FMCSA, West Building 6th Floor, 1200 New Jersey Avenue SE, Washington, DC 20590. Telephone: 202-480-5240; email Thomas.Kelly@dot.gov. Office hours are from 9 a.m. to 5 p.m., Monday through Friday, except Federal Holidays.

SUPPLEMENTARY INFORMATION: Title: Trucking Fleet Concept of Operations (CONOPS) for Managing Mixed Fleets.

OMB Control No.: To be determined by OMB upon OMB approval of the ICR.

Type of Request: new information collection.

Respondents: CMV fleet managers, CMV sales personnel, State and Federal government personnel, industry engineers, researchers, and CMV drivers.

Estimated Number of Respondents: 2,000 total respondents (675 CMV fleet managers, 150 CMV sales personnel, 600 Industry Engineers, 100 CMV Drivers, 325 State and Federal government, and 150 Researchers).

Estimated Time per Response: 3.5 minutes for the Pre-Roadshow Questionnaire and 4.4 minutes for the Post-Roadshow Questionnaire.

Expiration Date: This is a new information collection.

Frequency of Response: On occasion (if attending one of four roadshows).

Estimated Total Annual Burden: 175 hours.

Background

Although ADS-equipped trucks hold the promise of increased safety, productivity, and efficiency, it is not clear how these vehicles should be integrated into fleet operations with conventional trucks for mixed-fleet operations. Reflecting this issue is a question frequently asked by trucking executives: How can I integrate ADS into my fleet operations? FMCSA needs information from truck industry representatives regarding their opinions and perception of ADS.

The introduction of ADS technology on heavy trucks (Class 8 vehicles) will profoundly affect all commerce in the U.S., as the U.S. moves more than 70% of all goods by truck. However, existing stakeholders in the road freight ecosystem (primarily for-hire and private truck fleets, but also shippers, brokers, truck manufacturers, and service and maintenance providers) do not have a clear picture of how they will implement ADS in their daily operations. At present, technical progress in this nascent but promising technology is outstripping the ability of truck fleets to keep up and plan for ADS deployment. This may adversely affect adoption by truck fleets and associated industries, resulting in the delayed achievement of safety, productivity, and efficiency benefits of ADS-equipped trucks. If ADS technology is to gain traction in the U.S. trucking industry, current stakeholders and new entrants need a rigorous, data driven CONOPS.

This project focuses on the development and demonstration of a CONOPS for ADS-equipped trucks, which will ensure the results translate directly to real-world settings that are of practical importance to the trucking industry, regulators, and the public at large. Part of the development of CONOPS includes a series of outreach events where the public, with a focus on truck drivers and truck fleet managers, will have the opportunity to meet ADS technology developers and original equipment manufacturers. The outreach will also provide opportunities to participate in hands-on technology demonstrations, such as in-vehicle demonstrations and closed-course scenarios. Lessons learned from this demonstration will influence all three phases of the research to ensure the CONOPS developed is true to real-life fleet operations. Thus, the purpose of the hands-on demonstrations: (1) Expose truck fleet managers and other personnel, truck drivers, government officials, insurance and inspection personnel, and the general public to ADS; (2) collect valuable qualitative data on participants' opinions and perceptions regarding ADS; and (3) use the data to ensure the CONOPS covers major industry concerns.

Data will be collected from CMV drivers, CMV fleet managers, industry engineers, CMV sales personnel, researchers, and State and Federal government personnel at four roadshows. The roadshows will coincide with large conferences, such as the Technology Maintenance Council (TMC) Annual Meeting, North American Commercial Vehicle Show, SAE Commercial Vehicle Engineering Congress, and Automated Vehicle Symposium. The questionnaire data collected in Phase I of the study (pre-roadshow) will allow us to gather baseline opinions regarding ADS technologies. Once they participate in the hands-on demonstrations at the roadshow, we will see if their opinions on the technologies have changed (Phase 2 or post-roadshow).

The research team will use cell phones to collect participant data (adhering to cleaning procedures between each participant). The pre- and post-study questionnaires will be loaded onto a cell phone which will be distributed to participants at the beginning (and end) of the roadshow. Each questionnaire will be loaded in an app format. Once the participants submit their answers, the data will be stored on the phone and will not be accessible until researchers download the data to a computer.

FMCSA conducted a pilot test with some of the proposed end-users. This pilot test included six end users, two researchers, one government employee, one commercial/motor vehicle fleet representative, and two commercial driver's license holders. Participants completed the Pre-Roadshow Questionnaire and Post-Roadshow Questionnaire, timing completion of each and reviewing for content and/or comprehension issues. Based on this pilot test, FMCSA revised the Pre-Roadshow Questionnaire and Post-Roadshow Questionnaire. Pilot test participants indicated mean completion times of 3.5 minutes and 4.4 minutes for the Pre-Roadshow Questionnaire and Post Roadshow Questionnaire, respectively.

I. Summary of Public Comments Received

On November 3, 2020, FMCSA published a notice in the Federal Register (85 FR 69678) with a 60-day public comment period to announce this proposed information collection. As of the closing date of January 4, 2021, the agency received nine comments in response to this notice; however, one comment was blank.

Seven of the comments expressed concern for the safety of ADS technologies and the potential job losses associated with this technology.

The remaining comment indicated concern for real-world ADS testing as opposed to using simulations. FMCSA appreciates the commenters taking the time to provide feedback; however, these comments are beyond the scope of this information collection.

Public Comments Invited: You are asked to comment on any aspect of this information collection, including: (1) Whether the proposed collection is necessary for the FMCSA to perform its functions; (2) the accuracy of the estimated burden; (3) ways for the FMCSA to enhance the quality, usefulness, and clarity of the collected information; and (4) ways that the burden could be minimized without reducing the quality of the collected information.

Issued under the authority delegated in 49 CFR 1.87 on:
Thomas P. Keane,
Associate Administrator, Office of Research and Registration.

[FR Doc. 2021-08419 Filed 4-22-21; 8:45 am]

BILLING CODE 4910-EX-P